DEPARTMENT OF HOMELAND SECURITY

Office of the Secretary

[Docket No. DHS-2008-0127]

Privacy Act of 1974; Department of Homeland Security/Federal Emergency Management Agency/GOVT-001 National Defense Executive Reserve System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system FEMA/GOVT-1 National Defense Executive Reserve System as a Department of Homeland Security/Federal Emergency Management Agency/Federal Government system of records notice titled, DHS/FEMA/GOVT-001 National Defense Executive Reserve System. Categories of individuals, categories of records, and the routine uses of this legacy system of records notice have been reviewed and updated to better reflect the Department of Homeland Security/Federal Emergency Management Agency/Federal Government National Defense Executive Reserve records. This new system will be included in the Department of Homeland Security's inventory of record systems.

DATES: Written comments must be submitted on or before February 6, 2009.

ADDRESSES: You may submit comments, identified by docket number DHS-2008-0127 by one of the following methods:

• Federal e-Rulemaking Portal: http://www.regulations.gov. Follow the instructions for submitting comments.

• Fax: 703-483-2999.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: The Federal Emergency Management Agency Privacy Officer, Federal Emergency Management Agency, 500 C Street, SW., Washington, DC 20472. For privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/Federal Emergency Management Agency (FEMA)/Federal Government have relied on preexisting Privacy Act systems of records notices for the collection and maintenance of records that concern the National Defense Executive Reserve.

As part of its efforts to streamline and consolidate its record systems, DHS is updating and reissuing a system of records under the Privacy Act (5 U.S.C. 552a) that deals with the National Defense Executive Reserve. Individuals of the National Defense Executive Reserve voluntarily apply for assignments. Some individuals are already government employees and others are private sector employees who would not be considered government employees unless asked to perform emergency duties after the President of the United States declares a mobilization. Assignments are made in three year increments and may either be redesignated or terminated. Individuals may, at any time, request voluntarily termination. This record system will allow the Federal Government to collect and preserve records regarding applicants for and members of the National Defense Executive Reserve. The collection and maintenance of this information will assist the Federal Government in coordinating and administering the National Defense Executive Reserve.

In accordance with the Privacy Act of 1974 and as part of DHS's ongoing effort to review and update legacy system of records notices, DHS is giving notice that it proposes to update and reissue the following legacy record system DHS/FEMA/GOVT-1 National Defense Executive Reserve System (55 FR 37182 September 7, 1990) as a DHS/FEMA/Federal Government system of records notice titled, DHS/FEMA/GOVT-001 National Defense Executive Reserve System. Categories of individuals and categories of records have been reviewed, and the routine uses of this legacy system of records notice have been updated to better reflect the DHS/FEMA/Federal Government's National Defense Executive Reserve records. This new system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the National Defense Executive Reserve System of Records.

In accordance with 5 U.S.C. 552a(r), DHS has provided a report of this updated system of records to the Office of Management and Budget and to Congress.

System of Records

DHS/FEMA/GOVT-001

System name:

Federal Emergency Management Agency National Defense Executive Reserve System.

Security classification:

Unclassified.

System location:

Records may be maintained in the personnel office, emergency preparedness unit, or other designated offices located at the local installation of the department or agency which currently employs the individual.

Categories of individuals covered by the system:

Categories of individuals include applicants for and members of the National Defense Executive Reserve assignments.

Categories of records in the system:

Categories of records in this system include:

• FEMA Form 85-3, National Defense Executive Reserve Personal Qualifications Statement. This Form includes:

• Individual's name;

• Social security number;

• Home mailing address;

• Home telephone number;

• Home e-mail address;

• Date of birth;

• Birthplace;

• Employment experience; and

• Professional memberships.

• Other personnel and administrative records, skills inventory, training data, and other related records necessary to coordinate and administer the program.

Authority for maintenance of the system:

Defense Production Act of 1950, E.O. 11179 dated September 22, 1964, as amended by E.O. 12148 dated July 20, 1979, 5 U.S.C. 301; the Federal Records Act, 44 U.S.C. 3101; Executive Order 9397.

Purpose(s):

The purpose of this system is to collect and preserve records regarding applicants for and members of the National Defense Executive Reserve. The collection and maintenance of this information will assist the Federal Government in coordinating and administering the National Defense Executive Reserve

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual about whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the Association of the National Defense Executive Reserve and the National Defense Executive Reserve Conference Association to facilitate training and relevant information dissemination efforts for reservists in the National Defense Executive Reserve.

I. To an appropriate Federal, State, local, tribal, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and when disclosure is appropriate to the proper performance of the official duties of the person making the request.

J. To a court, magistrate, or administrative tribunal in the course of presenting evidence, including disclosure to opposing counsel or witnesses in the course of civil discovery, litigation, or settlement negotiations or in connection with criminal law proceedings or in response to a subpoena from a court of competent jurisdiction.

K. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by individual's name, social security number, specific skill area of the applicant, or agency.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Case files on reservists are maintained in accordance with Item 29a, GRS 18, Security and Protective Services Records, and destroyed five years after termination from the NDER program. Case files on individuals whose applications were rejected or withdrawn are destroyed when five years old in accordance with Item 29b, GRS 18. FEMA will review this retention schedule and work with NARA to determine whether it remains appropriate.

System Manager and address:

Associate Director, National Preparedness Directorate, Federal Emergency Management Agency, Washington, DC 20472, will maintain a computerized record of all applications and assignments of National Defense Executive Reserve reservists for the Federal Government as well as the personnel files for all individuals assigned to the Federal Emergency Management Agency. The departments and agencies will maintain their own personnel records on those individuals assigned to their respective department or agency.

Notification procedure:

Individuals wishing to inquire whether this system of records contains information about themselves should submit their inquiries to:

(a) NDER applicants/assignees to DHS/FEMA—Federal Emergency Management Agency, Associate Director, National Preparedness Directorate, Washington, DC 20472;

(b) NDER applicants/assignees to Federal departments and/or agencies other than DHS—contact the agency personnel, emergency preparedness unit, or Privacy Act Officer to determine location of records within the department/agency. Individuals must include their full name, date of birth, social security number, current address, and type of assignment/agency they applied with to be an NDER reservist.

Record access procedures:

Individuals/applicants/assignees to DHS/FEMA wishing to access records containing information about themselves should follow the record access procedures that are outlined in FEMA's and DHS' Privacy Act regulations, 44 CFR Part 6 and 6 CFR Part 5. Requests for Privacy Act protected information must be made in writing and clearly marked as a “Privacy Act Request.” The name of the requester, the nature of the record sought, and the required verification of identity must be clearly indicated. Requests should be sent to: FOIA Officer, Records Management, Federal Emergency Management Agency, Department of Homeland Security, 500 C Street, SW., Washington, DC 20472.

Individuals/applicants/assignees to Federal departments and/or agencies other than DHS should follow “Notification procedure (b)” above.

Contesting record procedures:

See “Record access procedures” above.

Record source categories:

The individuals to whom the record pertains. Prior to being designated as a National Defense Executive Reserve reservist, the applicant must successfully complete a background investigation conducted by the Office of Personnel Management which may include reference checks of prior employers, educational institutions attended, police records, neighborhoods, and present and past friends and acquaintances.

Exemptions claimed for the system:

None.

Dated: December 23, 2008.
Hugo Teufel III,
Chief Privacy Officer, Department of Homeland Security.

[FR Doc. E9-45 Filed 1-6-09; 8:45 am]

BILLING CODE 4410-10-P